DEPARTMENT OF ENERGY

Federal Energy Regulatory Commission

Combined Notice of Filings #2

Take notice that the Commission received the following electric rate filings:

Docket Numbers: ER16-438-000.

Applicants: Marshall Wind Energy LLC.

Description: Supplement to December 1, 2015 Marshall Wind Energy LLC tariff filing.

Filed Date: 1/7/16.

Accession Number: 20160107-5267.

Comments Due: 5 p.m. ET 1/21/16.

Docket Numbers: ER16-612-000.

Applicants: Greeley Energy Facility, LLC.

Description: Clarification to December 22, 2015 Greeley Energy Facility, LLC tariff filing.

Filed Date: 1/8/16.

Accession Number: 20160108-5201.

Comments Due: 5 p.m. ET 1/29/16.

Docket Numbers: ER16-696-000.

Applicants: Midcontinent Independent System Operator, Inc.

Description: Compliance filing: 2016-01-08_Attachment X Funding Options Filing to be effective 6/24/2015.

Filed Date: 1/8/16.

Accession Number: 20160108-5150.

Comments Due: 5 p.m. ET 1/29/16.

Docket Numbers: ER16-697-000.

Applicants: PJM Interconnection, L.L.C.

Description: § 205(d) Rate Filing: Revised ISA Service Agreement No. 3577, Queue No. Y1-086 per Assignment to be effective 12/9/2015.

Filed Date: 1/8/16.

Accession Number: 20160108-5151.

Comments Due: 5 p.m. ET 1/29/16.

Docket Numbers: ER16-698-000.

Applicants: Southwestern Electric Power Company.

Description: § 205(d) Rate Filing: AECC Farmington Delivery Point Agreement to be effective 12/9/2015.

Filed Date: 1/8/16.

Accession Number: 20160108-5164.

Comments Due: 5 p.m. ET 1/29/16.

Docket Numbers: ER16-699-000.

Applicants: Duke Energy Carolinas, LLC.

Description: § 205(d) Rate Filing: NCEMC NITSA SA 210 Amendment to be effective 1/1/2016.

Filed Date: 1/8/16.

Accession Number: 20160108-5166.

Comments Due: 5 p.m. ET 1/29/16.

Docket Numbers: ER16-700-000.

Applicants: CPV Towantic, LLC.

Description: Baseline eTariff Filing: Application for Market-Based Rate Authority to be effective 3/9/2016.

Filed Date: 1/8/16.

Accession Number: 20160108-5175.

Comments Due: 5 p.m. ET 1/29/16.

Docket Numbers: ER16-701-000.

Applicants: CPV Valley, LLC.

Description: Baseline eTariff Filing: Application for Market-Based Rate Authority to be effective 3/9/2016.

Filed Date: 1/8/16.

Accession Number: 20160108-5177.

Comments Due: 5 p.m. ET 1/29/16.

Docket Numbers: ER16-702-000.

Applicants: PJM Interconnection, L.L.C., American Transmission Systems, Incorporated, Metropolitan Edison Company, Pennsylvania Electric Company, The Potomac Edison Company.

Description: § 205(d) Rate Filing: Americans Transmission Systems, Inc. et al. Filing- New & Revised Service Agrmnts to be effective 3/8/2016.

Filed Date: 1/8/16.

Accession Number: 20160108-5222.

Comments Due: 5 p.m. ET 1/29/16.

Docket Numbers: ER16-703-000.

Applicants: Southwest Power Pool, Inc.

Description: § 205(d) Rate Filing: Revisions to Address Adjustments to the SPP Criteria to be effective 3/8/2016.

Filed Date: 1/8/16.

Accession Number: 20160108-5225.

Comments Due: 5 p.m. ET 1/29/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 8, 2016.
Nathaniel J. Davis, Sr.,
Deputy Secretary.

[FR Doc. 2016-00602 Filed 1-13-16; 8:45 am]

BILLING CODE 6717-01-P